DEPARTMENT OF TREASURY

Office of the Comptroller of the Currency

12 CFR Part 44

[Docket No. OCC-2018-0010]

RIN 1557-AE27

FEDERAL RESERVE SYSTEM

12 CFR Part 248

[Docket No. R-1608]

RIN 7100-AF 06

FEDERAL DEPOSIT INSURANCE CORPORATION

12 CFR Part 351

RIN 3064-AE67

COMMODITY FUTURES TRADING COMMISSION

17 CFR Part 75

RIN 3038-AE72

SECURITIES AND EXCHANGE COMMISSION

17 CFR Part 255

[Release no. BHCA-3; File no. S7-14-18]

RIN 3235-AM10

Extension of Comment Period for Proposed Revisions to Prohibitions and Restrictions on Proprietary Trading and Certain Interests in, and Relationships With, Hedge Funds and Private Equity Funds

AGENCY: Office of the Comptroller of the Currency, Treasury (OCC); Board of Governors of the Federal Reserve System (Board); Federal Deposit Insurance Corporation (FDIC); Securities and Exchange Commission (SEC); and Commodity Futures Trading Commission (CFTC) (collectively, the “Agencies”).

ACTION: Notice of proposed rulemaking; extension of comment period.

SUMMARY: On July 17, 2018, the Agencies published in the Federal Register a notice of proposed rulemaking (proposal) that would amend the regulations implementing section 13 of the Bank Holding Company Act. Section 13 contains certain restrictions on the ability of a banking entity and nonbank financial company supervised by the Board to engage in proprietary trading and have certain interests in, or relationships with, a hedge fund or private equity fund. The proposed amendments are intended to provide banking entities with clarity about what activities are prohibited and to improve supervision and implementation of section 13.

In response to requests from commenters regarding issues addressed in the proposal, the public comment period has been extended for 30 days until October 17, 2018. This action will allow interested persons additional time to analyze the proposal and prepare their comments.

DATES: The comment period for the notice of proposed rulemaking published on July 17, 2018 (83 FR 33432), regarding proposed revisions to prohibitions and restrictions on proprietary trading and certain interests in, and relationships with, hedge funds and private equity funds, is extended from September 17, 2018, to October 17, 2018.

ADDRESSES: You may submit comments by any of the methods identified in the proposal.¹ Please submit your comments using only one method.

¹ See 83 FR 33432, 33432-33 (July 17, 2018).

FOR FURTHER INFORMATION CONTACT:

OCC: Tabitha Edgens, Senior Attorney; Mark O'Horo, Attorney, Chief Counsel's Office, (202) 649-5510; for persons who are deaf or hearing impaired, TTY, (202) 649-5597, Office of the Comptroller of the Currency, 400 7th Street SW, Washington, DC 20219.

Board: Kevin Tran, Supervisory Financial Analyst, (202) 452-2309, Amy Lorenc, Financial Analyst, (202) 452-5293, David Lynch, Deputy Associate Director, (202) 452-2081, David McArthur, Senior Economist, (202) 452-2985, Division of Supervision and Regulation; Flora Ahn, Senior Counsel, (202) 452-2317, Gregory Frischmann, Counsel, (202) 452-2803, or Kirin Walsh, Attorney, (202) 452-3058, Legal Division, Board of Governors of the Federal Reserve System, 20th and C Streets NW, Washington, DC 20551. For the hearing impaired only, Telecommunication Device for the Deaf (TDD), (202) 263-4869.

FDIC: Bobby R. Bean, Associate Director, bbean@fdic.gov, Michael Spencer, Chief, Capital Markets Strategies Section, michspencer@fdic.gov, or Brian Cox, Capital Markets Policy Analyst, brcox@fdic.gov, Capital Markets Branch, (202) 898-6888; Michael B. Phillips, Counsel, mphillips@fdic.gov, Benjamin J. Klein, Counsel, bklein@fdic.gov, or Annmarie H. Boyd, Counsel, aboyd@fdic.gov, Legal Division, Federal Deposit Insurance Corporation, 550 17th Street NW, Washington, DC 20429.

SEC: Andrew R. Bernstein (Senior Special Counsel), Sophia Colas (Attorney-Adviser), Sam Litz (Attorney-Adviser), Aaron Washington (Special Counsel), Elizabeth Sandoe (Senior Special Counsel), Carol McGee (Assistant Director), or Josephine J. Tao (Assistant Director), at (202) 551-5777, Division of Trading and Markets, and Nicholas Cordell, Matthew Cook, Elizabeth Blase, Aaron Gilbride (Branch Chief), Brian McLaughlin Johnson (Assistant Director), and Sara Cortes (Assistant Director), at (202) 551-6787 or IArules@sec.gov, Division of Investment Management, U.S. Securities and Exchange Commission, 100 F Street NE, Washington, DC 20549.

CFTC: Erik Remmler, Deputy Director, (202) 418-7630, eremmler@cftc.gov; Cantrell Dumas, Special Counsel, (202) 418-5043, cdumas@cftc.gov; Jeffrey Hasterok, Data and Risk Analyst, (646) 746-9736, jhasterok@cftc.gov, Division of Swap Dealer and Intermediary Oversight; Mark Fajfar, Assistant General Counsel, (202) 418-6636, mfajfar@cftc.gov, Office of the General Counsel; Stephen Kane, Research Economist, (202) 418-5911, skane@cftc.gov, Office of the Chief Economist; Commodity Futures Trading Commission, Three Lafayette Centre, 1155 21st Street NW, Washington, DC 20581.

SUPPLEMENTARY INFORMATION: On July 17, 2018, the Agencies published in the Federal Register a notice of proposed rulemaking that would amend the regulations implementing section 13 of the Bank Holding Company Act.² Section 13 contains certain restrictions on the ability of a banking entity and nonbank financial company supervised by the Board to engage in proprietary trading and have certain interests in, or relationships with, a hedge fund or private equity fund. The proposed amendments are intended to provide banking entities with clarity about what activities are prohibited and to improve supervision and implementation of section 13. The proposal stated that the public comment period would close on September 17, 2018.³

² 83 FR 33432-33605.

³ 83 FR 33432-33605.

The Agencies have received requests from the public asking the Agencies to extend the comment period for the proposal.⁴ These requests suggested that an extension of the comment period would help commenters provide feedback on the proposed changes and detailed requests for comment in the proposal. This extension of the comment period will allow interested persons additional time to analyze the proposal and prepare their comments. Accordingly, the comment period for the proposal is extended from September 17, 2018, to October 17, 2018.

⁴ See joint comment letter to the Agencies from Better Markets, Americans for Financial Reform, Public Citizen and the Center for American Progress (July 10, 2018); comment letter to the Agencies from U.S. Senators Sherrod Brown and Jeffrey A. Merkley (August 6, 2018); comment letter to the Agencies from the National Association of Federally-Insured Credit Unions (July 25, 2018).

Dated: August 31, 2018.
Joseph M. Otting,
Comptroller of the Currency.
By order of the Board of Governors of the Federal Reserve System, acting through the Secretary of the Board under delegated authority, August 29, 2018.
Ann E. Misback,
Secretary of the Board.
Dated at Washington, DC on August 28, 2018. Federal Deposit Insurance Corporation.
Valerie Jean Best,
Assistant Executive Secretary.
By the Securities and Exchange Commission.
Dated: September 4, 2018.
Brent J. Fields,
Secretary.
Issued in Washington, DC, on August 30, 2018, by the Commodity Futures Trading Commission.
Christopher J. Kirkpatrick,
Secretary of the Commodity Futures Trading Commission.

[FR Doc. 2018-19649 Filed 9-10-18; 8:45 am]

BILLING CODE 6210-01-P; 4810-33-P; 6714-01-P; 8011-01-P; 6351-01-P